Title 3—

The President

Proclamation 7921 of August 29, 2005

National Alcohol and Drug Addiction Recovery Month, 2005

By the President of the United States of America

A Proclamation

The devastating effects of alcohol and drug addiction have destroyed the lives and families of countless Americans. During National Alcohol and Drug Addiction Recovery Month, we recognize the dangers of substance abuse and renew the hope of overcoming addiction for individuals across our Nation. This year's theme, “Join the Voices for Recovery: Healing Lives, Families and Communities,” encourages those striving to recover from this disease and recognizes the many families, support organizations, faith-based and community groups, and volunteers working to help overcome addiction.

Substance abuse leads to a cycle of addiction and despair that too often causes disease and death among young people. The Helping America's Youth initiative, led by First Lady Laura Bush, is promoting positive youth development and combating alcohol and drug addiction. This initiative is helping our children to make healthy choices and build lives of purpose. To aid citizens seeking treatment and recovery for substance abuse, my Administration also has provided $200 million over the past 2 years for the Access to Recovery program. My 2006 budget requests an additional $150 million for this program to further expand treatment choices. Directing resources to individuals allows them to choose a program that suits their needs and increases their chances of success. In addition, we have increased opportunities for communities and faith-based providers to aid those suffering from addiction.

I encourage all Americans to support individuals striving to overcome addiction and the groups that are helping to fight alcohol and drug addiction. By working together, we can continue to build a more compassionate society that transforms lives and provides health, hope, and healing to those who hurt.

NOW, THEREFORE, I, GEORGE W. BUSH, President of the United States of America, by virtue of the authority vested in me by the Constitution and laws of the United States, do hereby proclaim September 2005 as National Alcohol and Drug Addiction Recovery Month. I call upon the people of the United States to observe this month with appropriate programs and activities.

IN WITNESS WHEREOF, I have hereunto set my hand this twenty-ninth day of August, in the year of our Lord two thousand five, and of the Independence of the United States of America the two hundred and thirtieth.

B

[FR Doc. 05-17573

Filed 8-31-05; 9:05 am]

Billing code 3195-01-P